DEPARTMENT OF AGRICULTURE

Agricultural Marketing Service

[Doc. No. FV-04-326]

United States Standards For Grades of Canned Refried Beans

AGENCY: Agricultural Marketing Service, USDA.

ACTION: Notice; request for public comment.

SUMMARY: The Agricultural Marketing Service (AMS), prior to undertaking additional research and other work associated with the establishment of an official grade standard, is soliciting comments on the petition to establish United States Standards for Grades of Refried Beans. AMS received a petition from the National Food Processors Association (NFPA) to create grade standards for refried beans that would include a description of the product, style, sample unit size, grades, designation of grade levels by sample unit and by lot. This proposed standard would provide a common language for trade, a means of measuring value in the marketing of canned refried beans, and provide guidance in the effective utilization of canned refried beans.

DATES: Comments must be submitted on or before September 7, 2004.

ADDRESSES: Written comments may be submitted to Lydia E. Berry, Processed Products Branch, Fruit and Vegetable Programs, Agricultural Marketing Service, U.S. Department of Agriculture, STOP 0247, 1400 Independence Avenue, SW., Washington, DC 20250-0247; fax (202) 690-1087; or e-mail lydia.berry@usda.gov or http://www.regulations.gov. Comments should reference the date and page of this issue of the Federal Register. All comments received will be made available for public inspection at the address listed above during regular business hours and on the Internet. A copy of the petition from NFPA requesting the establishment of grade standards for Canned Refried Beans is available either through the address cited above or by accessing AMS's Web site on the Internet at: http://www.ams.usda.gov/ fv/ppb.html. Any comments received regarding this proposed standard will also be posted on that site.

FOR FURTHER INFORMATION CONTACT: Lydia E. Berry, Processed Products Branch, Fruit and Vegetable Programs, Agricultural Marketing Service, U.S. Department of Agriculture, STOP 0247, 1400 Independence Avenue, SW., Washington, DC 20250-0247; fax (202) 690-1087; or e-mail lydia.berry@usda.gov.

SUPPLEMENTARY INFORMATION: Section 203(c) of the Agricultural Marketing Act of 1946 (7 U.S.C. 1621-1627), as amended, directs and authorizes the Secretary of Agriculture “to develop and improve standards of quality, condition, quantity, grade and packaging and recommend and demonstrate such standards in order to encourage uniformity and consistency in commercial practices.” AMS is committed to carrying out this authority in a manner that facilitates the marketing of agricultural commodities and makes copies of official standards available upon request. Those United States Standards for Grades of Fruits and Vegetables that no longer appear in the Code of Federal Regulations are maintained by USDA/AMS/Fruit and Vegetable Programs. AMS has been asked to establish the U.S. Standards for Grades of Canned Refried Beans using the procedures that appear in part 36, title 7 of the Code of Federal Regulations (7 CFR part 36). NFPA has requested the development of a standard for canned refried beans to be used by the industry. The petition provided information on style, sample size and description to develop the standard and AMS received samples of various styles to collect information on canned refried beans. The petition requests the establishment of a standard that would define “Canned Refried Beans” and establish three styles, designated as “Refried Beans with Lard,” “Refried Beans with Vegetable Oil (Vegetarian)” and “Fat Free Refried Beans.” It would also establish three types of canned refried beans, based on the “whole bean-to-bean paste ratio”, designated as “Type I”, “Type II” and “Type III.” The petition also requests that quality factors that affect canned refried beans to be designated as “Color,” “Absence of Defects,” “Consistency,” and “Flavor and Odor.” The requested standard would also establish the grade levels “A,” “B,” and “Substandard,” and assign the corresponding score points for each level. This proposed standard would provide a common language for trade, a means of measuring value in the marketing of canned refried beans, and provide guidance in the effective utilization of canned refried beans.

Agricultural Marketing Service

Prior to undertaking detailed work to develop a new standard, AMS is soliciting for comments on the petition submitted to establish United States Standards for Grades of Canned Refried Beans.

This notice provides a 60 day comment period for interested parties to comment on the petition to develop the standard. Should AMS conclude that the standards are needed, the Agency will develop a proposed standard that will be published in the Federal Register with a request for comments in accordance with 7 CFR part 36.

Dated: June 30, 2004.
A.J. Yates,
Administrator, Agricultural Marketing Service.

[FR Doc. 04-15282 Filed 7-6-04; 8:45 am]

BILLING CODE 3410-02-P